DEPARTMENT OF EDUCATION

[Docket No.: ED-2023-SCC-0063]

Agency Information Collection Activities; Submission to the Office of Management and Budget for Review and Approval; Comment Request; Early Childhood Longitudinal Study, Kindergarten Class of 2023-24 (ECLS-K:2024) April 2024 Materials Revision Request

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before May 30, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2023-24 (ECLS-K:2024) April 2024 Materials Revision Request.

OMB Control Number: 1850-0750.

Type of Review: A revision of a currently approved ICR.

Respondents/Affected Public: Individuals and Households.

Total Estimated Number of Annual Responses: 157,586.

Total Estimated Number of Annual Burden Hours: 84,093.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to nonparental care, early care and education programs, and school; and children's experiences and growth through the elementary grades. The Early Childhood Longitudinal Study, Kindergarten Class of 2023-24 (ECLS-K:2024) is the fourth cohort in the series of early childhood longitudinal studies. The study will advance research in child development and early learning by providing a detailed and comprehensive source of current information on children's early learning and development, transitions into kindergarten and beyond, and progress through school. The ECLS-K:2024 will provide data about the population of children who will be kindergartners in the 2023-24 school year. The ECLS-K:2024 will focus on children's early school experiences continuing through the fifth grade, and will include collection of data from children, parents, teachers, and school administrators.

The request to conduct the first three national data collection rounds for the ECLS-K:2024 was approved in April 2023 (OMB# 1850-0750 v.26). Revisions to procedures and materials for the first two rounds of data collection were approved in subsequent revisions (OMB# 1850-0750 v.27-29). The ECLS-K:2024 fall kindergarten data collection was conducted August 2023 to January 2024. It will be followed by the spring (March-July 2024) kindergarten round, and the spring (March-July 2025) first-grade round. Each of these rounds of data collection will involve advance school contacts, for example to conduct student sampling activities, collect teacher and school information, and locate families whose children may have moved schools. Future OMB packages are planned for the third-and fifth-grade field test (to be conducted in March-July 2026), as well as for all future currently-planned rounds.

This current revision request (accompanied by 30 days of public comment) is to update study respondent materials, web surveys, and website designs that will be used in the spring 2025 first-grade data collection activities. Many of the revisions in this package were made based on analyses of the fall 2022 field test data (OMB# 1850-0750 v.25), as well as additional discussions with design experts. Other changes occurred after further discussion on operational procedures. An additional revision request will be submitted to OMB in August 2024 for revisions to the spring first-grade materials as the surveys and study website move into programming. Additionally, this August 2024 revision request will address the new federal statistical standard for race/ethnicity items (Statistical Policy Directive No. 15: Standards for Maintaining, Collecting, and Presenting Federal Data on Race and Ethnicity (SPD 15)). NCES is at work on its action plan for compliance with the new SPD15 standards, and early discussions suggest that implementation of these standards will be particularly complex and delicate in data collections where race and ethnicity data is reported both by individuals about themselves and also provided by third parties. Compliance for ECLS involves revising multiple race/ethnicity items e.g., adult self-reports, adult reports of others, school reports of the school composition, teacher reports of the classroom composition, field staff collection of school reports of sampled children.

The requested changes in this revision request do not affect the approved total cost to the federal government for conducting this study but do result in a small increase in respondent burden.

Dated: April 25, 2024.
Juliana Pearson,
PRA Coordinator, Strategic Collections and Clearance, Governance and Strategy Division, Office of Chief Data Officer, Office of Planning, Evaluation and Policy Development.

[FR Doc. 2024-09312 Filed 4-29-24; 8:45 am]

BILLING CODE 4000-01-P